DEPARTMENT OF TRANSPORTATION

Federal Aviation Administration

Notice of Intent To Rule on Application (04-05-C-00-SUN) To Impose and Use, the Revenue From a Passenger Facility Charge (PFC) at Friedman Memorial Airport, Submitted by the Friedman Memorial Airport Authority, Friedman Memorial Airport, Hailey, ID

AGENCY: Federal Aviation Administration (FAA), DOT.

ACTION: Notice of intent to rule on application.

SUMMARY: The FAA proposes to rule and invites public comment on the application to impose and use, PFC revenue at Friedman Memorial Airport under the provisions of 49 U.S.C. 40117 and part 158 of the Federal Aviation Regulations (14 CFR part 158).

DATES: Comments must be received on or before February 4, 2005.

ADDRESSES: Comments on this application may be mailed or delivered in triplicate to the FAA at the following address: Mr. J. Wade Bryant, Manager, Seattle Airports District Office, SEA-ADO; Federal Aviation Administration; 1601 Lind Avenue, SW., Suite 250, Renton, Washington 98055-4056.

In addition, one copy of any comments submitted to the FAA must be mailed or delivered to Mr. Richard Baird, Airport Manager, at the following address: PO Box 929, Hailey, ID 83333.

Air Carriers and foreign air carriers may submit copies of written comments previously provided to Friedman Memorial Airport, under section 158.23 of part 158.

FOR FURTHER INFORMATION CONTACT: Ms. Suzanne Lee-Pang, (425) 227-2654, Seattle Airports District Office, SEA-ADO; Federal Aviation Administration; 1601 Lind Avenue, SW., Suite 250, Renton, Washington 98055-4056. The application may be reviewed in person at this same location.

SUPPLEMENTARY INFORMATION: The FAA proposes to rule and invites public comment on the application 04-05-C-00-SUN to impose and use, PFC revenue at Friedman Memorial Airport, under the provisions of 49 U.S.C. 40117 and part 158 of the Federal Aviation Regulations (14 CFR part 158).

On December 23, 2004, the FAA determined that the application to impose and use the revenue from a PFC submitted by Friedman Memorial Airport Authority, Friedman Memorial Airport, Hailey, Idaho, was substantially complete within the requirements of section 158.25 of part 158. The FAA will approve or disapprove the application, in whole or in part, no later than April 2, 2005.

The following is a brief overview of the application.

Level of the proposed PFC: $4.50.

Proposed charge effective date: June 1, 2005.

Proposed charge expiration date: December 1, 2008.

Total requested for use approval: $1,158,554.

Brief description of proposed projects: Property Acquisition; Passenger Terminal Building Addition/Renovation; Airport Traffic Control Voice Communication Control System; Snow Removal Equipment (SRE) Acquisition; Aircraft Rescue and Firefighting (ARFF) Truck; Aircraft Rescue and Fire Fighting (ARFF) Building Expansion; Master Plan Update; Airport Site Selection and Feasibility Study; Air Traffic Control Tower (ATCT) Improvements, Phase 1; Terminal Building Improvements; Acquire Trailer Mounted De-icing Equipment; Automated Weather Observation System (AWOS); Terminal Access Road, Phase 1; Safety Area Grading and Runway Shift; Install Engineered Material Arresting System (EMAS) on Runway 13; Snow Removal Equipment (SRE)/Maintenance Vehicle Building; Airport Master Plan, Preferred Airport Alternative; Environmental Assessment (Pre-Environmental Impact Statement) for the Preferred Airport Alternative; Snow Removal Equipment (SRE) Acquisition; Replace Runway 13-31 Porous Friction Course.

Class or classes of air carriers which the public agency has requested not be required to collect PFCs: Operations by Air/Taxi/Commercial Operators utilizing aircraft having a maximum seating capacity of less than twenty passengers when enplaning revenue passengers in a limited, irregular/non-scheduled, or special service manner. Also exempted are Operations by Air Taxi/Commercial Operators, without regard to seating capacity, for revenue passengers transported for student instruction, non-stop sightseeing flights that begin and end at Friedman Memorial Airport and are conducted within a 25 mile radius of the same airport, fire fighting charters, ferry or training flights, air ambulance/medivac flights and aerial photography or survey flights.

Any person may inspect the application in person at the FAA office listed above under FOR FURTHER INFORMATION CONTACT and at the FAA Regional Airports Office located at: Federal Aviation Administration, Northwest Mountain Region, Airports Division, ANM-600, 1601 Lind Avenue, SW., Suite 315, Renton, WA 98055-4056.

In addition, any person may, upon request, inspect the application, notice and other documents germane to the application in person at the Friedman Memorial Airport.

Issued in Renton, Washington on December 23, 2004.
David A. Field,
Manager, Planning, Programming and Capacity Branch, Northwest Mountain Region.

[FR Doc. 05-124 Filed 1-4-05; 8:45 am]

BILLING CODE 4910-13-M